INTERNATIONAL TRADE COMMISSION

[Investigation Nos. 701-TA-564 and 731-TA-1338 and 1340 (Final)]

Steel Concrete Reinforcing Bar From Japan and Turkey; Determinations

On the basis of the record ¹ developed in the subject investigations, the United States International Trade Commission (“Commission”) determines, pursuant to the Tariff Act of 1930 (“the Act”), that an industry in the United States is materially injured by reason of imports of steel concrete reinforcing bar (“rebar”) from Japan and Turkey, provided for in subheadings 7213.10, 7214.20, and 7228.30 of the Harmonized Tariff Schedule of the United States; subject imports from Japan and Turkey have been found by the Department of Commerce (“Commerce”) to be sold in the United States at less than fair value (“LTFV”), and subject imports from Turkey have been found to be subsidized by that country's government.

¹ The record is defined in sec. 207.2(f) of the Commission's Rules of Practice and Procedure (19 CFR 207.2(f)).

Background

The Commission, pursuant to sections 705(b) and 735(b) of the Act (19 U.S.C. 1671d(b) and 19 U.S.C. 1673d(b)), instituted these investigations effective September 20, 2016, following receipt of a petition filed with the Commission and Commerce by the Rebar Trade Action Coalition and its individual members: Bayou Steel Group, LaPlace, Louisiana; ² Byer Steel Group, Inc., Cincinnati, Ohio; Commercial Metals Company, Irving, Texas; Gerdau Ameristeel U.S. Inc., Tampa, Florida; Nucor Corporation, Charlotte, North Carolina; and Steel Dynamics, Inc., Pittsboro, Indiana. The final phase of the investigations was scheduled by the Commission following notification of preliminary determinations by Commerce that imports of rebar from Turkey were subsidized within the meaning of section 703(b) of the Act (19 U.S.C. 1671b(b)) and imports of rebar from Japan and Turkey were sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on March 15, 2017 (82 FR 13854). The hearing was held in Washington, DC, on May 18, 2017, and all persons who requested the opportunity were permitted to appear in person or by counsel.

² Bayou Steel Group was no longer a petitioner in the final phase of these investigations.

The Commission made these determinations pursuant to sections 705(b) and 735(b) of the Act (19 U.S.C. 1671d(b) and 19 U.S.C. 1673d(b)). It completed and filed its determinations in these investigations on June 30, 2017. The views of the Commission are contained in USITC Publication 4705 (June 2017), entitled Steel Concrete Reinforcing Bar from Japan and Turkey: Investigation Nos. 701-TA-564 and 731-TA-1338 and 1340 (Final).

By order of the Commission.
Issued: June 30, 2017.
Katherine M. Hiner,
Supervisory Attorney.

[FR Doc. 2017-14250 Filed 7-6-17; 8:45 am]

BILLING CODE 7020-02-P